NUCLEAR REGULATORY COMMISSION

[NRC-2010-0002]

Sunshine Act Notice

DATES: Week of November 29, 2010.

Place: Commissioners' Conference Room, 11555 Rockville Pike, Rockville, Maryland.

Status: Public and closed.

Additional Items To Be Considered

Week of November 29, 2010

Tuesday, November 30, 2010

10 a.m. Affirmation Session (Public Meeting) (Tentative).

a. Tennessee Valley Authority (Watts Bar Nuclear Plant, Unit 2), Southern Alliance for Clean Energy's Petition for Interlocutory Review of LBP-10-12 (Denying SACE's Waiver Petition) (July 14, 2010) (Tentative).

* * * * *

* The schedule for Commission meetings is subject to change on short notice. To verify the status of meetings, call (recording)—(301) 415-1292. Contact person for more information: Rochelle Bavol, (301) 415-1651.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify Angela Bolduc, Chief, Employee/Labor Relations and Work Life Branch, at 301-492-2230, TDD: 301-415-2100, or by e-mail at angela.bolduc@nrc.gov. Determinations on requests for reasonable accommodation will be made on a case-by-case basis.

* * * * *

This notice is distributed electronically to subscribers. If you no longer wish to receive it, or would like to be added to the distribution, please contact the Office of the Secretary, Washington, DC 20555 (301-415-1969), or send an e-mail to darlene.wright@nrc.gov.

Dated: November 22, 2010.
Rochelle C. Bavol,
Policy Coordinator, Office of the Secretary.

[FR Doc. 2010-30093 Filed 11-24-10; 4:15 pm]

BILLING CODE 7590-01-P